DEPARTMENT OF COMMERCE

National Oceanic and Atmospheric Administration

National Estuarine Research Reserve System

AGENCY: Office of Ocean and Coastal Resource Management (OCRM), National Ocean Service (NOS), National Oceanic and Atmospheric Administration, Department of Commerce.

ACTION: Notice of intent to prepare a draft environmental impact statement. Notice of public meetings in Austin, Port Aransas, and Rockport, Texas to conduct public scoping meetings on the proposed Texas National Estuarine Research Reserve System to solicit comments on significant issues related to the preparation of a Draft Environmental Impact Statement/Draft Management Plan (DEIS/DMP). The DEIS/DMP will address research, education and stewardship needs of the proposed reserve.

SUMMARY: In accordance with section 315 of the Coastal Zone Management Act of 1972, as amended, the State of Texas and the National Oceanic and Atmospheric Administration (NOAA) intend to conduct public scoping meetings on November 16, 2004 in Austin, Texas and on November 17, 2004 in Port Aransas and Rockport, Texas as part of NOAA's Draft Environmental Impact Statement/Draft Management Plan (DEIS/DMP) process to solicit comments for preparation of a DEIS/DMP.

DATES AND ADDRESSES: Tuesday, November 16, 2004 at 10 am, Hearing Room E2.014 in the Capitol Extension, Texas State Capitol, 1400 Congress Ave., Austin, TX 78701. (A visitor parking garage is located at 12th Street and San Jacinto Boulevard.)

Wednesday, November 17, 2004 at 9 am, Auditorium in Visitors Center, University of Texas Marine Science Institute, 750 Channel View Dr., Port Aransas, TX 78373. (Parking is available at Marine Science Institute Visitor Center.)

Wednesday, November 17, 2004 at 4 pm, Saltwater Pavilion, 810 Seabreeze Drive, Rockport Beach Park, Rockport, TX 78383. (Parking is available at Rockport Beach Park.)

SUPPLEMENTARY INFORMATION: The decision to be made by NOAA is whether or not to designate the proposed Texas reserve. University of Texas Marine Science Institute (UTMSI) and NOAA are working to determine what the boundaries of the reserve will be, how the reserve will be managed, and the policies of the proposed reserve. These decisions will be made through the analysis process and spelled out in the reserve management plan.

The Mission-Aransas Estuary constitutes a relatively intact and minimally disturbed area, and is an excellent representative of the Western Gulf of Mexico with a high diversity of habitat types. The proposed site also has unique geologic and hydrological features that will attract a broad range of research interests from multiple scientific disciplines. Beginning in 2001, the State of Texas undertook a site selection process to determine appropriate areas of the Texas coast that might be nominated for inclusion in the National Estuarine Research Reserve (NERR) System. The extensive site selection process generated advice from public and private experts in estuarine science and input from the public.

In March of 2004 the State of Texas nominated the Mission-Aransas Estuary for consideration as the Texas NERR. In September of 2004 NOAA approved the site nomination document for the proposed Texas reserve and began working with UTMSI to develop a management plan and environmental impact statement for the proposed reserve.

The Texas NERR is proposed to be administered by the UTMSI in cooperation with partner landholders including the Texas General Land Office, Texas Parks and Wildlife Department, U.S. Fish and Wildlife Service, Coastal Bend Land Trust, Fennessey Ranch, and The Nature Conservancy. UTMSI has developed an outline of a preliminary draft management plan. The outline specifies specific needs and priorities related to research, education and stewardship. At the public meetings, UTMSI and NOAA will provide a synopsis of the process for developing a DEIS/DMP and will solicit comments on significant environmental issues that will be incorporated into a DEIS.

Interested parties who wish to submit suggestions or comments regarding the scope or content of the proposed DEIS/DMP are invited to attend any of the above meetings.

FOR FURTHER INFORMATION CONTACT: Paul Montagna, University of Texas at Austin Marine Science Institute at (361) 749-6779 or paul@utmsi.utexas.edu. or Laurie McGilvray, Chief, Estuarine Reserves Division, Office of Ocean and Coastal Resource Management, National Ocean Service, NOAA, 1305 East-West Highway, Silver Spring, Maryland 20910, (301) 713-3155 ext 158 or Laurie.McGilvray@noaa.gov.

Federal Domestic Assistance Catalog Number 11.420 (Coastal Zone Management) Research Reserves.
Dated: October 28, 2004.
Eldon Hout,
Office of Ocean and Coastal Resource Management.

[FR Doc. 04-24428 Filed 10-29-04; 8:45 am]

BILLING CODE 3510-08-M